DEPARTMENT OF COMMERCE

International Trade Administration

[C-408-046]

Sugar From the European Community; Preliminary Results of Full Sunset Review of the Countervailing Duty Finding

AGENCY: Import Administration, International Trade Administration, Department of Commerce.

SUMMARY: On September 1, 2004, the Department of Commerce (“the Department”) initiated a sunset review of the countervailing duty finding on sugar from the European Community (“the Community”) pursuant to section 751(c) of the Tariff Act of 1930, as amended (“the Act”). See Notice of Initiation of Five-Year (“Sunset”) Review, 69 FR 53408 (September 1, 2004). On the basis of a notice of intent to participate filed on behalf of the domestic interested parties and adequate substantive comments filed on behalf of the domestic interested parties and the Community, the Department is conducting a full sunset review of the countervailing duty finding on sugar from the Community. As a result of this sunset review, the Department preliminarily finds that revocation of the countervailing duty finding would likely lead to continuation or recurrence of countervailable subsidies. The net countervailabe subsidy rate and the nature of the subsidy are identified in the “Preliminary Results of Review” section of this notice.

EFFECTIVE DATE: March 25, 2005.

FOR FURTHER INFORMATION: Martha V. Douthit, Office of Policy for Import Administration, International Trade Administration, U.S. Department of Commerce, 14th Street & Constitution Avenue, NW., Washington, DC 20230; telephone: (202) 482-5050.

SUPPLEMENTARY INFORMATION:

Scope

Imports covered by this countervailing duty finding are shipments of sugar from the European Community. During the review period, such merchandise was classifiable under item numbers 155.2025, 155.2045, 155.3000 and 183.05 of the Tariff Schedules of the United States Annotated (“TSUSA”). This merchandise is currently classifiable under item numbers 1701.11.05, 1701.11.10, 1701.11.20, 1701.11.50, 1701.12.05, 1701.12.10, 1701.12.50, 1701.91.05, 1701.91.10, 1701.90.30, 1701.99.05, 1701.99.1000, 1701.99.1090, 1701.99.5000, 1701.99.5090, 1702.90.05, 1702.90.10, 1702.90.20, 2106.90.42, 2106.90.44, 2106.90.46 of the Harmonized Tariff Schedule (“HTS”). Specialty sugars are exempt from the scope of this finding. On December 7, 1987, two interested parties, the United States Beet Sugar Association and the United States Cane Sugar Refiners' Association, requested a scope review of blends of sugar and dextrose, a corn-derived sweetner, containing at least 65 percent sugar. The merchandise is currently imported under the HTS item number 1701.99.00. On June 21, 1990, the Department issued a final scope clarification memorandum, which determined that such blends are within the scope of the finding, and that imports of such blends from the Community are subject to the corresponding countervailing duty.

Background

The Department published the notice of initiation of the second sunset review of the countervailing duty finding on sugar from the Community pursuant to section 751(c) of the Act. See Initiation of Five-Year (“Sunset”) Reviews, 69 FR 53408 (September 1, 2004). The Department received the Notice of Intent to Participate from the United States Beet Sugar Association, American Sugar Refiners' Association, American Sugar Cane League, Sugar Cane Growers Cooperative of Florida, Florida Sugar Cane League, Rio Grande Valley Sugar Growers, Inc., Hawaii Sugar Farmers, and the American Sugarbeet Growers Association, (collectively “domestic interested parties”), within the deadline specified in section 351.218(d)(1)(i) of the Department's Regulations (“Sunset Regulations”). The domestic interested parties claimed interested party status under section 771(9)(E) of the Act, as trade associations, the majority of whose members produce the domestic like product in the United States. We received substantive responses from domestic interested parties and the European Union Delegation of the European Commission (the “Community”) within the deadline specified in 19 CFR 351.218(d)(3)(i).¹ As a result, pursuant to section 751(c)(5) of the Act and 19 CFR 351.218(e)(2)(i), the Department is conducting a full sunset review of this finding.

¹ The European Commission is the authority responsible for administrating the sugar export restitution scheme. The European Commission has in the past participated in this proceeding.

Analysis of Comments Received

All issues raised in these reviews are addressed in the “Issues and Decision Memorandum” (“Decision Memo”) from Ronald K. Lorentzen, Acting Director, Office of Policy, Import Administration, to Joseph A. Spetrini, Acting Assistant Secretary for Import Administration, dated March 21, 2005, which is hereby adopted by this notice. The issues discussed in the Decision Memo include the likelihood of continuation or recurrence of a countervailable subsidy and the net countervailing subsidy likely to prevail if the finding were revoked. Parties can find a complete discussion of all issues raised in this review and the corresponding recommendations in this public memorandum, which is on file in room B-099 of the main Commerce Building.

In addition, a complete version of the Decision Memo can be accessed directly on the Web at http://ia.ita.doc.gov, under the heading “March 2005.” The paper copy and electronic version of the Decision Memo are identical in content.

Preliminary Results of Review

The Department preliminarily finds that revocation of the countervailing duty finding on sugar from the Community would be likely to lead to continuation or recurrence of a countervailable subsidy. The net countervailable subsidy likely to prevail if the finding were revoked is 21.62 cents per pound. Interested parties may submit case briefs no later than May 9, 2005, in accordance with 19 CFR 351.309 (c)(1)(i). Any interested party may request a hearing within 30 days of publication of this notice in accordance with 19 CFR 351.310 (c). Rebuttal briefs, which must be limited to issues raised in the case briefs, may be filed not later than May 14, 2005, in accordance with 19 CFR 351.309 (d). Any hearing, if requested, will be held on May 16, 2005. The Department will issue a notice of final results of this sunset review, which will include the results of its analysis of issues raised in any such comments, no later than July 27, 2005.

We are issuing and publishing the results and notice in accordance with sections 751(c), 752, and 777(i)(1) of the Act.

Dated: March 21, 2005.
Joseph A. Spetrini,
Acting Assistant Secretary for Import Administration.

[FR Doc. E5-1307 Filed 3-24-05; 8:45 am]

BILLING CODE 3510-DS-P